DEPARTMENT OF DEFENSE

Department of the Air Force

[25-0005263-AFRL/RY]

Notice of Intent To Grant an Exclusive Patent License

AGENCY: Department of the Air Force, Department of Defense.

ACTION: Notice of intent to grant an exclusive patent license.

SUMMARY: Pursuant to the Bayh-Dole Act and implementing regulations, the Department of the Air Force hereby gives notice of its intent to grant an exclusive patent license agreement to The University of Cincinnati, a State of Ohio institute of higher education, having a place of business at 2900 Reading Road, Suite 460, Cincinnati, OH 45206-0829.

DATES: Written objections must be filed no later than fifteen (15) calendar days after the date of publication of this Notice.

ADDRESSES: Submit written objections to Richard Mescher, Air Force Materiel Command Law Office, AFMCLO/JAZ, 2240 B Street, Room 260, Wright-Patterson AFB, OH 45433-7109; Facsimile: (937) 255-3733; Email: afmclo.jaz.tech@us.af.mil. Include Docket No. 25-0005263-AFRL/RY in the subject line of the message.

FOR FURTHER INFORMATION CONTACT: Richard Mescher, Air Force Materiel Command Law Office, AFMCLO/JAZ, 2240 B Street, Rm. 260, Wright-Patterson AFB, OH 45433-7109; Telephone (937) 713-0220; Facsimile: (937) 255-3733; Email: afmclo.jaz.tech@us.af.mil.

SUPPLEMENTARY INFORMATION: The Department of the Air Force intends to grant the exclusive patent license agreement for the invention described in: U.S. Patent Application Serial No. 18/539,778, filed December 14, 2023, and entitled “Systems and Methods for Fault Detection and Mitigation Using Adaptive and Real-Time Degeneracy”.

Abstract of Patent Application

Systems and methods disclosed herein provide training an artificial neural network (ANN) on buffered input and output samples of an original component within a system such that the ANN is configured to produce a degenerate component, the degenerate component configured to generate the same outputs as the original component; comparing the outputs from the original component to outputs of the degenerative component during actual component operation; and in the event of a failure of the original comment, replacing the original component with the degenerate component.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2025-12577 Filed 7-3-25; 8:45 am]

BILLING CODE 3911-44-P